DEPARTMENT OF TRANSPORTATION

Pipeline and Hazardous Materials Safety Administration

Notice of Application for Modification of Special Permit

AGENCY: Office of Hazardous Materials Safety, Pipeline and Hazardous Materials Safety Administration (PHMSA), DOT.

ACTION: List of application for modification of special permits.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before January 20, 2015.

Address Comments to: Record Center, Pipeline and Hazardous Materials, Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for modification of special permit is published in accordance with Part 107 of the Federal hazardous materials transportation law (49 U.S.C. 5117(b); 49 CFR 1.53(b)).

Issued in Washington, DC, on December 15, 2014.
Donald Burger,
Chief, General Approvals.

Modification Special Permits
Application number | Docket number | Applicant | Regulation(s) affected | Nature of special permit thereof
11253-M |  | DPC Industries, Inc. Houston, TX | 49 CFR 172.101, Special Provision B14; 173.315, Notes 4, 24 | To modify the special permit to authorize adding an additional cargo tank.
12084-M |  | Honeywell International, Inc. Morristown, NJ | 49 CFR 180.209 | To modify the special permit to authorize an additional hazardous material.
12116-M |  | Proserv UK Ltd East Tullos Aberdeen | 49 CFR 178.36 | To modify the special permit to authorize use of a stronger and more corrosion resistant material to be used to manufacture certain parts of the cylinders.
15552-M |  | Poly-Coat Systems, Inc. Liverpool, TX | 49 CFR 107.503(b) and (c), 173.241, 173.242, and 173.243 | To modify the special permit to provide a more accurate method of testing for lining failure.
15985-M |  | Space Exploration Technologies Corp. (Space X) Hawthorne, CA | 49 CFR part 172 and 173 | To modify the special permit to authorize the transportation of hazardous materials by cargo vessel.

[FR Doc. 2014-30550 Filed 1-2-15; 8:45 am]

BILLING CODE 4909-60-M